ENVIRONMENTAL PROTECTION AGENCY

[ER-FRL-6619-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

DRAFT EISs

ERP No. D-AFS-J08025-CO Rating EC2, Nucla-Telluride Transmission Line Project, Permit Approval and Funding for Construction and Operation of a 115 kV Transmission Line between the Nucla Substation in Montrose County and either the Telluride or Sunshine Substations in San Miguel County, CO.

Summary: EPA expressed environmental concern regarding impacts to wetlands and waters of the United States.

ERP No. D-AFS-J65336-MT Rating EC2, Lolo National Forest, Big Game Winter Range and Burned Area Management, Restoration, Prevention and Cooperation, Implementation, Missoula, Lake, Mineral, Sanders, Granite, Powell, Lewis and Clark, Flathead and Ravalli Counties, MT.

Summary: EPA expressed environmental concerns regarding potential herbicide transport to surface and ground waters. EPA recommended a monitoring plan for herbicides in sensitive waters to assess effectiveness of mitigation measures and that the FEIS include information regarding ground water depths in areas to be treated.

ERP No. D-AFS-J65341-MT Rating EC2, Little Bear-Wilson Timber Sale and Road Decommission Project, Implementation, Gallatin Range, Gallatin National Forest, Bozeman Ranger District, Gallatin County, MT.

Summary: EPA expressed environmental concerns regarding the inclusion of timber harvest units in the degraded Wilson Creek Drainage, and recommended that additional mitigation be provided for reduction in sediment production or that these harvest units be dropped. EPA also believes additional information should be presented regarding aquatic monitoring, and impacts to the threatened lynx to fully assess and mitigate all potential impacts of the management actions.

ERP No. D-COE-G39033-LA Rating EC2, West Bay Sediment Diversion Channel Project, Construction, Funding, Plaquemines Parish, LA.

Summary: EPA has expressed environmental concerns and has requested additional information on project site selection, water quality, CWA Section 404b1 assessment, cost, comparative impact analysis, cumulative benefits, and cost sharing requirements.

ERP No. D-EDA-B99003-CT Rating EC2, Adriaen's Landing Project, Development from Columbus Boulevard south of the Founders Bridge and Riverfront Plaza, City of Hartford, CT.

Summary: EPA expressed concerns about the air quality analysis, and suggested measures to control construction vehicle emissions, traffic, odor, and requested a more comprehensive analysis of neighborhood noise impacts.

ERP No. D-FHW-F40391-IL Rating EC2, Illinois Route 3 (FAP-14) Relocation, Improved Transportation from Sauget to Venice, Funding, NPDES Permit and COE Section 404 Permit, Madison and St. Clair Counties, IL.

Summary: EPA agreed with the project's purpose and need, range of alternatives, and selection of a preferred alternative. EPA expressed concerns that the existing wetlands compensation site falls approximately 20 acres short of providing the full amount of compensatory wetlands needed to account for the project's anticipated wetland impacts.

ERP No. D-TVA-E65057-00 Rating EC2, Guntersville Reservoir Land Management Plan, Implementation, Proposal to Update a 1983 Land Allocation Plan, Jackson and Marshall Counties, AL and Marion County, TN.

Summary: EPA expressed concerns regarding the potential use and effects of timber harvesting on TVA reservoir lands and the potential for TVA's selection of Alternative B1 as their preferred alternative. EPA environmentally prefers B2 since it proposes less reservoir development. Overall, we believe that TVA's economic stimulation and public benefits goals should still be contained within the context of environmental protection.

ERP No. D-UAF-D11048-VA Rating EC2, Initial F-22 Operational Wing Beddown Replacing the Existing F-15C at Langley (AFB) or one of the Four Alternative Locations, VA.

Summary: EPA expressed concern due to issues relating to noise, environmental justice, transportation, floodplains, and pollution prevention. EPA also recommended that the Air Force incorporate pollution prevention practices into the design of the proposed plan.

ERP No. DS-SFW-B82009-00 Rating EC2, Lake Champlain Sea Lamprey Control Long-Term Program, Proposal is to Achieve Fish Population, Recreational Fishery and Economic Benefits Associated with Reduced Sea Lamprey Predation Implementation, Clinton, Essex and Washington Counties, NY and Addison and Chittenden Counties, Counties, VT.

Summary: EPA expressed concerns about impacts to non-target species, requested information to describe how new waterbodies would be analyzed under NEPA, requested information to further explain the project purpose and need, suggested that the program include provisions for periodic re-evaluation, and highlighted the possibility that a NPDES permit may be required for lampricide applications.

Final EISs

ERP No. F-AFS-J65300-CO

Upper Blue Stewardship Project, Implementation of Vegetation Management, Travel Management, Designation of Dispersed Camping Sites, White River National Forest, Dillon Ranger District, Summit County, CO.

Summary: EPA's remaining concern is with development of three permanent clearings for ski runs in a lynz movement corridor.

ERP No. F-AFS-J65328-SD

Jasper Fires Value Recovery Area Project, Implementation, Revised Forest Plan for the Black Hills National Forest, Hell Canyon and Mystic Ranger District, Custer and Pennington Counties, SD.

Summary: EPA has remaining concerns about potential impacts to groundwater from activities in fractured limestone landscapes.

ERP No. F-AFS-J65329-MT

Maudlow—Toston Post-Fire Salvage Sale, Harvesting Burnt Timber, Implementation, Helena National Forest, Townsend Ranger District, Broadway County, MT.

Summary: EPA expressed concerns about the dropping of road decommissioning from the selected alternative and loss of the associated beneficial watershed effects, and the lack of Hydrologic/aquatics monitoring for measurement to post-fire and post-salvage harvest aquatic conditions. EPA requested additional information to fully assess and mitigate potential impacts.

ERP No. F-USA-A10073-00

Programmatic EIS—Transportable Treatment Systems for Non-Stockpile Chemical Warfare Material (CWM), To Destroy Non-Stockpile in order to Protect Human, Health, Safety and the Environment, To Comply with the International Treaty, Nationwide.

Summary: EPA expressed environmental concerns regarding the risks and monitoring during the treatment of CWM. EPA recommended that DOD should address these issues at the site-specific level.

Dated: July 2, 2001.
Ken Mittelholtz,
Environmental Protection Specialist, Office of Federal Activities.

[FR Doc. 01-16940 Filed 7-5-01; 8:45 am]

BILLING CODE 6560-50-P